DEPARTMENT OF COMMERCE

National Oceanic and Atmospheric Administration

[I.D. 020404G]

Marine Mammals; File Nos. 42-1642, 482-1653, and 1026-1671

AGENCY: National Marine Fisheries Service (NMFS), National Oceanic and Atmospheric Administration (NOAA), Commerce.

ACTION: Receipt of applications for permit amendments.

SUMMARY: Notice is hereby given that the following applicants have applied in due form for a permit amendment to take marine mammals for purposes of scientific research:

Mystic Aquarium, 55 Coogan Blvd., Mystic, CT 06355 (Dr. Lisa Mazarro, Principal Investigator);

James Gilbert, Ph.D., University of Maine, Department of Wildlife Ecology, 210 Nutting Hall, Orono, Maine 04469; and

Belinda L. Rubinstein, New England Aquarium, Central Wharf, Boston, MA 02110.

DATES: Written or telefaxed comments on the amendment requests must be received on or before March 25, 2004.

ADDRESSES: The applications and related documents are available for review upon written request or by appointment in the following office(s):

All documents: Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Amy Sloan, Ruth Johnson, or Tammy Adams, 301/713-2289.

SUPPLEMENTARY INFORMATION: The subject amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-227).

Permit No. 42-1642-02 authorizes the permit holder (Mystic Aquarium) to study levels of vitamins A and E in captive and free-ranging Steller sea lions (Eumetopias jubatus) in relation to various life history stages and receive, import, or export serum, milk, and tissue samples from captive marine mammals held in facilities within the United States and abroad to study the disease hemochromatosis (accumulation of iron in tissues) as well as others associated with general marine mammal health. The permit also authorized import of one male Steller sea lion from the Vancouver Aquarium, Vancouver, Canada for breeding with female Steller sea lions currently held by Mystic Aquarium in support of their vitamin A and E research studies.

The holder requests an amendment to receive, import and export samples from certain ESA-listed species (Guadalupe fur seal (Arctocephalus townsendi), monk seal (Monachus monachus; Monachus schauinslandi), Steller sea lion, bowhead whale (Balaena mysticetus), right whale (Eubalaena glacialis), and grey whale (Eschrictius robustus) and any non ESA-listed species under NMFS jurisdiction in the U.S. and abroad (i.e. worldwide). Samples would be obtained from the following sources: (1) routine husbandry samples from captive animals; (2) stranded animals abroad; (3) legally subsistence-hunted animals in the U.S. and abroad; and (4) samples from other permitted research projects. The number of samples received per year (up to 500 per species) would not increase. The applicant would like to include receipt, import or export of all blood constituents (instead of just serum), an increased amount of blood (not to exceed 1% body weight) from 4 to 12 ml to 4 to 40 ml, and an increase in the number of samples received per animal per year from 6 to 30. The objectives of this request are (1) to expand sources of samples for currently permitted studies; (2) to include health studies of Brucella in a variety of marine mammal species; (3) to investigate the effects of environmental “stressors” on the immune system and health of marine mammals; and (4) to characterize and investigate the marine mammal nervous and immune systems. The holder also requests a - extension for the permitted and requested activities.

Permit No. 482-1653-00 authorizes the permit holder (James Gilbert) to capture, mark, sex, measure, blood sample, radio-tag, and monitor via aerial survey harbor seals (Phoca vitulina) in order to study seal depredations at Atlantic salmon aquaculture farms in New England.

The applicant requests an amendment to add two additional research tasks: (1) population structure and foraging ecology of harbor seals in New England; and (2) behavioral and physiological development of diving in harbor seal pups. An increase in the numbers of harbor seals to be taken is requested (up to 30 neonates, 30 lactating females, and 20 weaned pups) per year at each of three locations in New England. Incidental captures of any age/sex class of up to 3 seals per year per location and incidental disturbance during captures may occur. Capture and basic processing would include: flipper tag (with retention of tissue plug for genetics), measurements, photograph, 1 VHF tag (head), blood sample (60 ml), TDR attachment. A second capture would be done to recover the TDR. Secondary processing of above animals would include: muscle biopsy, electrode implant to monitor heart rate, blood draw over 20 minutes, and injection of 40 ml Evans Blue Dye (with sedation).

Permit No. 1026-1671-00 authorizes the permit holder (Belinda Rubinstein) to capture, tag, sample (including tooth extraction, blubber biopsy, blood and milk collection, anal swabs and fecal samples), and release solitary animals of five pinniped species, harbor seal, harp seal (Phoca groenlandica), gray seal (Halichoerus grypus), the hooded seal (Cystophora cristata), and the ringed seal (Phoca hispida)in the wild and in rehabilitation facilities. Samples may be exported and re-imported for analyses. The purposes of the research are to study habitat utilization using satellite telemetry and flipper tagging, determine stock association, and monitor health of phocids along the east coast of the U.S., from Maine to Virginia.

The applicant requests an amendment to clarify sampling of lactating females, add capture takes, and refine sampling and restraint methodologies. This would include: milk collection from lactating adult females with a pup (up to 10 handling takes of pups of each species); an increase in the total number of captures of each species by 25 individuals (from 50 animals to 75) to account for animals that might escape or may need to be released prior to sampling due to health or other factors; modifications to existing restraint, weighing, sampling and emergency protocols; sampling lesions to investigate the prevalence of virus/bacteria in the wild populations; rectal temperatures and use of a pulse oxymeter to monitor animals' conditions during procedures; oral swabs for zoonotic disease studies; and ultrasound for blubber thickness measurements.

In compliance with the National Environmental Policy Act of 1969 (42 U.S.C. 4321 et seq.), an initial determination has been made that the activities proposed are categorically excluded from the requirement to prepare an environmental assessment or environmental impact statement.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 42-1642, 482-1653, or 1026-1671.

Concurrent with the publication of this notice in the Federal Register, NMFS is forwarding copies of this application to the Marine Mammal Commission and its Committee of Scientific Advisors.

Dated: February 18, 2004.
Stephen L. Leathery,
Chief, Permits, Conservation and Education Division, Office of Protected Resources, National Marine Fisheries Service.

[FR Doc. 04-4023 Filed 2-23-04; 8:45 am]

BILLING CODE 3510-22-S